DEPARTMENT OF TRANSPORTATION

Federal Transit Administration

Over-the-Road Bus Accessibility Program Announcement of Project Selections

AGENCY: Federal Transit Administration, DOT.

ACTION: Notice.

SUMMARY: The U.S. Department of Transportation (DOT) Federal Transit Administration (FTA) announces the selection of projects to be funded under Fiscal Year 2003 appropriations for the Over-the-Road Bus (OTRB) Accessibility Program, authorized by Section 3038 of the Transportation Equity Act for the 21st Century (TEA-21). The OTRB Accessibility Program makes funds available to private operators of over-the-road buses to help finance the incremental capital and training costs of complying with DOT's over-the-road bus accessibility rule, published in the Federal Register on September 24, 1998.

FOR FURTHER INFORMATION CONTACT: The appropriate FTA Regional Administrator for grant-specific issues; or Blenda Younger, Office of Program Management, 202-366-2053, for general information about the OTRB Program.

SUPPLEMENTARY INFORMATION: A total of $6.9 million was made available for the program in FY 2003: $5.2 million for intercity fixed-route providers and $1.7 million for all other providers, such as commuter, charter, and tour operators. A total of 84 applicants requested $17.6 million: $10.5 million was requested by intercity fixed-route providers, and $7.1 million was requested by all other providers. Project selections were made on a discretionary basis, based on each applicant's responsiveness to statutory project selection criteria, fleet size, and level of funding received in previous years. Because of the high demand for the funds available, most applicants received less funding than they requested, but all qualified applicants received some funding. The selected projects will provide funding for the incremental cost of adding lifts to 128 new vehicles, retrofitting 80 vehicles, and $335,546 for training. Each of the following 74 awardees, as well as the 10 applicants who were not selected for funding, will receive a letter that explains how funding decisions were made.

Operator | City/State | Award amounts: Intercity fixed-route | Award amounts: Other | Award amounts: Total
Region I:
Bonanza Bus Lines | Providence, RI | $109,935 |  | $109,935
Bristol Tours, Inc | Bristol, VT |  | 39,547 | 39,547
Concord Coach Lines, Inc | Concord, NH | 48,800 |  | 48,800
Entertainment Tours | Braintree, MA | 63,000 |  | 63,000
Peter Pan Bus Lines | Springfield, MA | 157,859 |  | 157,859
Vermont Transit Co | Burlington, VT |  | 33,151 | 33,151
Region II:
Adirondack Trailways | Hurley, NY | 187,500 |  | 187,500
Blue Bird Coach Lines, Inc | N.Tonawanda, NY |  | 87,030 | 87,030
Hampton Jitney, Inc | Southampton, NY |  | 28,800 | 28,800
Shortline (Hudson Transit) | Mahwah, NJ | 180,000 |  | 180,000
Sunrise Coach Lines, Inc | Green Port, NY |  | 39,384 | 39,384
Syracuse and Oswego Motor Lines | E. Syracuse, NY |  | 43,481 | 43,481
Trans Express, Inc | Brooklyn, NY |  | 33,750 | 33,750
Trolley Tours, Inc | Forked River, NJ | 72,000 | 22,950 | 94,950
Utica Rome Bus Company | Clinton, NY |  | 41,990 | 41,990
Region III:
Abbott Bus Lines, Inc | Roanoke, VA |  | 91,482 | 91,482
Angelic Luxury Coach, Inc | District Hgts, MD | 35,000 |  | 35,000
Brown Bus Company | Richmond, VA |  | 28,710 | 28,710
Butler Motor Transit | Butler, PA |  | 37,800 | 37,800
Capitol Bus Company | Harrisburg, PA | 50,400 |  | 50,400
Elegance Bus Tours, Inc | Suitland, MD | 35,000 |  | 35,000
Eyre Bus Service, Inc | Glenelg, MD |  | 63,142 | 63,142
First Priority Tours, Inc | District Hgts. MD |  | 20,965 | 20,965
Hagey Coach, Inc | Franconia, PA |  | 50,400 | 50,400
Krapf's Coaches, Inc | West Chester, PA |  | 25,200 | 25,200
Lenzer Tour and Travel | Sewickley, Pa |  | 37,800 | 37,800
Penn Highway Transit Co | Lancaster, PA |  | 33,712 | 33,712
Perkiomen Tours | Pennsburg, PA |  | 33,300 | 33,300
Susquehanna Transit Co | Avis, PA | 100,596 |  | 100,596
Thomas Tours | Beltsville, MD |  | 12,617 | 12,617
Trans-Bridge Lines | Bethlehem, PA | 154,101 |  | 154,101
Region IV:
Americoach Tours | Memphis, TN |  | 38,250 | 38,250
Blue Grass Tours, Inc | Lexington, KY |  | 28,507 | 28,507
Carolina Trailways | Raleigh, NC |  | 33,151 | 33,151
Champion Coach | Greenville, SC |  | 27,000 | 27,000
Escot Bus Lines, Inc | Tampa, FL |  | 39,368 | 39,368
Good Time Tours | Pensacola, FL |  | 2,700 | 2,700
Lancaster Tours and Travel | Lancaster, SC |  | 35,000 | 35,000
North Mississippi Services | Tupelo, MS |  | 45,814 | 45,814
Region V:
Alpha Bus Leasing | Cincinnati, OH |  | 54,871 | 54,871
B&W Charters, Inc | Kalamazoo, MI |  | 36,961 | 36,961
Brecksville Road Transit, Inc | Brecksville, OH |  | 37,104 | 37,104
Cavallo Bus Lines, Inc | Gillespie, IL |  | 35,000 | 35,000
Colonial Coach Lines | Des Plaines, IL | 112,274 |  | 112,274
Dixon Meyers Bus Transportation | Mt. Morris, IL |  | 35,946 | 35,946
Jefferson Lines | Minneapolis, MN | 133,250 |  | 133,250
Peoria Charter Coach Co | Peoria, IL | 35,910 |  | 35,910
Pioneer Coach Lines, Inc | Chicago, IL |  | 27,000 | 27,000
Red River Trails | Moorhead, MN |  | 27,239 | 27,239
Robinson Coach | Evanston, IL |  | 35,500 | 35,500
Trobec Bus Service, Inc | St. Stephen, MN |  | 27,000 | 27,000
Vandalia Bus Lines, Inc | Caseyville, Il |  | 52,332 | 52,332
Wisconsin Coach | Waukesha, WI | 108,000 |  | 108,000
Region VI:
Cowtown Bus Charters, Inc | Fort Worth, TX |  | 28,474 | 28,474
El Expresso | Houston, TX | 76,050 |  | 76,050
Fun Time Tours | Corpus Christi, TX |  | 38,554 | 38,554
Gotta Go Express Trailways | Fort Worth, TX |  | 25,626 | 25,626
Greyhound | Dallas, TX | 2,588,544 |  | 2,588,544
Gulf Coast Transit | Houston, TX |  | 38,250 | 38,250
Kerrville Bus Co | San Antonio, TX | 176,670 |  | 176,670
TNM&O | Lubbock,TX | 165,755 |  | 165,755
Valley Transit | Harlingen, TX | 99,453 |  | 99,453
Region VII:
Burlington Trailways | W. Burlington, IA | 85,488 |  | 85,488
Tiger Air Express, Inc | Columbia, MO | 45,022 |  | 45,022
Region VIII:
Express Charters, Inc | Fort Collins, CO |  | 27,000 | 27,000
Utah Trailways | Salt Lake City, UT | 28,135 |  | 28,135
Region IX:
Marin Airporter | San Rafael, CA | 112,365 |  | 112,365
Pacific Coachways | Garden Grove, CA |  | 25,200 | 25,200
Quest Transportation, Inc | San Luis Obispo, CA | 74,160 |  | 74,160
RDH Transportation Services | Honolulu, Hawaii |  | 55,576 | 55,576
Silverado Stages, Inc | San Luis Obispo, CA | 74,160 |  | 74,160
Region X:
Central Washington Airporter | Ferndale, WA | 44,305 |  | 44,305
Northwestern Stage Lines | Spokane, WA | 29,250 |  | 29,250
Premier Alaska Tours, Inc | Anchorage, AK |  | 26,316 | 26,316
Total |  | 5,182,982 | 1,688,950 | 6,871,932

Eligible project costs may be incurred by awardees prior to final grant approval. The incremental capital cost for adding wheelchair lift equipment to any new vehicles delivered on or after June 9, 1998, the effective date of TEA-21, is eligible for funding under the OTRB Accessibility Program.

Applicants selected for funding may be contacted by FTA regional offices if additional information is needed before grants are made. The grant applications will be sent to the U.S. Department of Labor (DOL) for certification under labor protection requirements pursuant to 49 U.S.C. 5333(b). After referring applications to affected employees represented by a labor organization, DOL will issue a certification to FTA. Terms and conditions of the certification will be incorporated in the FTA grant agreement under the new guidelines replacing those in 29 CFR Part 215. Please see Amendment to Section 5333(b), Guidelines to Carry Out New Programs Authorized by the Transportation Equity Act for the 21st Century (TEA-21); Final Rule (64 FR 40990, July 28, 1999).

Issued on: September 26, 2003.
Jennifer L. Dorn,
Administrator.

[FR Doc. 03-24965 Filed 10-1-03; 8:45 am]

BILLING CODE 4910-57-P